ENVIRONMENTAL PROTECTION AGENCY

[AD-FRL-6899-8]

Standards of Performance for New Stationary Sources and Emission Guidelines for Existing Sources for Other Solid Waste Incinerator Units

AGENCY: Environmental Protection Agency (EPA).

ACTION: Notice of revised schedule for promulgation.

SUMMARY: Section 129 of the Clean Air Act (CAA) directs us to develop new source performance standards (NSPS) and emission guidelines (EG) for municipal waste combustors (MWC), hospital/medical/infectious solid waste incinerators (HMIWI), commercial or industrial solid waste incinerators (CISWI), and other solid waste incinerators (OSWI). On November 2, 1993, we published a notice in the Federal Register (58 FR 58498) adopting a schedule for the promulgation of standards for OSWI and listing the types of incinerators to be included in that category. In that notice, we adopted a date of November 15, 2000 for promulgation of NSPS and EG for OSWI. This notice revises that schedule and adopts a date of November 15, 2005 for promulgation of NSPS and EG for OSWI.

ADDRESSES: Docket No. A-93-11 contains the supporting information for development of NSPS and EG for OSWI and is available for public inspection and copying between 8:00 a.m. and 5:30 p.m., Monday through Friday, at the Air and Radiation Docket and Information Center, U.S. Environmental Protection Agency, 401 M Street, SW, Washington, DC 20460, telephone (202) 260-7548, fax (202) 260-4000. The docket is available at the above address in Room M-1500, Waterside Mall (ground floor). A reasonable fee may be charged for copying.

FOR FURTHER INFORMATION CONTACT: Mr. Fred Porter, Combustion Group, Emission Standards Division (MD-13), U.S. EPA, Research Triangle Park, North Carolina 27711, (919) 541-5251, electronic mail address: porter.fred@epa.gov.

SUPPLEMENTARY INFORMATION:

I. Introduction

Section 129 of the CAA requires us to develop NSPS and EG for several categories of solid waste incinerators: MWC, HMIWI, CISWI and OSWI. While the CAA specifies the schedule for promulgation of NSPS and EG for MWC, HMIWI, and CISWI, it does not specify a schedule for the promulgation of NSPS and EG for OSWI. Instead, section 129 requires us to publish a schedule for promulgating NSPS and EG for OSWI.

On November 2, 1993, we published a notice in the Federal Register (58 FR 58498) stating that we believed the emissions reductions resulting from NSPS and EG for MWC, HMIWI, and CISWI were likely to outweigh those that could be achieved by NSPS and EG for OSWI. As a result, we announced that we would prioritize our resources and focus first on developing NSPS and EG for MWC, second on developing NSPS and EG for HMIWI, and third on developing NSPS and EG for CISWI. Based on that prioritization and the Administrator's judgement that OSWI are of substantially lesser significance than MWC, HMIWI, and CISWI, we adopted a date of November 15, 2000 for promulgation of NSPS and EG for OSWI.

II. List of Sources in the OSWI Category

In addition to adopting a date of November 15, 2000 for promulgation of NSPS and EG for the OSWI category, we also identified an initial list of incinerators within that category.

Small Incinerators Combusting Municipal Solid Waste are those with capacities of less than 35 tons per day burning municipal solid waste located at plants burning municipal solid waste. Small incinerators burning municipal solid waste are not covered under the NSPS and EG for MWC promulgated on August 25, 1997 (62 FR 45116 and 62 FR 45124) which apply to MWC with capacities greater than 250 tons per day, nor are they covered under the NSPS and EG for MWC proposed on August 30, 1999 (64 FR 47275 and 64 FR 47233) which apply to MWC with capacities greater than 35 tons per day, but less than or equal to 250 tons per day.

Residential Incinerators are those burning municipal solid waste located at single and multi-family dwellings, hotels and motels.

Agricultural Waste Incinerators are those burning agricultural waste.

Wood Waste Incinerators are those burning wood waste which are not covered by the proposed NSPS and EG for CISWI or the promulgated or proposed NSPS and EG for MWC. There are likely to be very few of those incinerators since the NSPS and EG for CISWI, as well as those for MWC, cover most incinerators burning wood waste.

Construction and Demolition Waste Incinerators are those burning construction and demolition waste.

Crematories and Pathological Incinerators are those burning human or animal tissue or cremating human or animal remains.

Petroleum-Contaminated Soil Treatment Facilities are those burning petroleum-contaminated soil. Sections 104 and 127 of the Comprehensive Environmental Response, Compensation, and Liability Act exclude petroleum from the definition of hazardous wastes; therefore, those incineration units are not regulated as hazardous waste treatment facilities.

Due to the limited information available to date, we cannot state with certainty that the OSWI category covers only those incinerators. As additional information is collected and assessed, we may add or delete incinerators within the OSWI category.

III. Schedule

As mentioned previously, we initially adopted a schedule of November 15, 2000 for promulgating NSPS and EG for OSWI. However, after collecting and assessing a limited amount of information on the various types of OSWI, we believe there may be substantial differences among those incinerators which may merit further subcategorization of OSWI for purposes of regulation. As a result, we have concluded that we need to collect additional information in order to determine the most logical and reasonable approach for developing NSPS and EG for OSWI. Consequently, we are adopting a revised schedule of November 15, 2005 for promulgation of NSPS and EG for the OSWI to allow sufficient time for the collection and analysis of additional information.

Dated: November 3, 2000.
Robert Perciasepe,
Assistant Administrator for Air and Radiation.

[FR Doc. 00-28807 Filed 11-8-00; 8:45 am]

BILLING CODE 6560-50-P